ELECTION ASSISTANCE COMMISSION

Notice of Sunshine Act Meeting

AGENCY: United States Election Assistance Commission.

ACTION: Notice of public meeting.

Date & Time: Thursday, July 19, 2007, 1 p.m.-4 p.m.

Place: The Charlotte Convention Center, Room 207D, 501 South College Street, Charlotte, NC 28202, (704) 339-6000.

Agenda: The Commission will consider the adoption of a draft EAC manual on Poll Worker Recruitment, Training and Retention, and a draft EAC manual on Recruiting College Poll Workers. The Commission will consider other administrative matters.

This meeting will be open to the public.

Person to Contact for Information: Bryan Whitener, Telephone: (202) 566-3100.

Thomas R. Wilkey,
Executive Director, U.S. Election Assistance Commission.

[FR Doc. 07-3232 Filed 6-28-07; 1:06 pm]

BILLING CODE 6820-KF-M